DEPARTMENT OF ENERGY

Federal Energy Regulatory Commission

Combined Notice of Filings #1

Take notice that the Commission received the following electric rate filings:

Docket Numbers: ER11-3697-000, ER11-3697-005.

Applicants: Southern California Edison Company.

Description: Correction to August 26, 2013 Offer of Settlement of Southern California Edison Company.

Filed Date: 10/9/13.

Accession Number: 20131009-5160.

Comments Due: 5 p.m. ET 10/15/13.

Docket Numbers: ER14-67-000.

Applicants: Southwest Power Pool, Inc.

Description: 1148R16 American Electric Power NITSA and NOAs to be effective 10/1/2013.

Filed Date: 10/9/13.

Accession Number: 20131009-5140.

Comments Due: 5 p.m. ET 10/30/13.

Docket Numbers: ER14-68-000.

Applicants: California Independent System Operator Corporation.

Description: Petition for Approval of Disposition of Proceeds of Penalty Assessments of the California Independent System Operator Corporation.

Filed Date: 10/9/13.

Accession Number: 20131009-5161.

Comments Due: 5 p.m. ET 10/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2013.
Nathaniel J. Davis, Sr.,
Deputy Secretary.

[FR Doc. 2013-24519 Filed 10-18-13; 8:45 am]

BILLING CODE 6717-01-P